DEPARTMENT OF COMMERCE

Patent and Trademark Office

Agency Information Collection Activities; Submission to the Office of Management and Budget for Review and Approval; Comment Request; Practitioner Conduct and Discipline

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the reporting burden to the public. Public comments were previously requested via the Federal Register on March 11, 2025, during a 60-day comment period. This notice allows for an additional 30 days for public comments.

DATES: To ensure consideration, you must submit comments regarding this information collection on or before July 7, 2025.

ADDRESSES: Written comments and recommendations for this information collection should be submitted within 30 days of the publication of this notice on the following website, http://www.reginfo.gov/public/do/PRAMain. Find this particular information collection by selecting “Currently under 30-day Review—Open for Public Comments” or by using the search function and entering either the title of the information collection or the OMB Control Number, 0651-0017. Do not submit Confidential Business Information or otherwise sensitive or protected information.

FOR FURTHER INFORMATION CONTACT:

• This information collection request may be viewed at http://www.reginfo.gov. Follow the instructions to view the Department of Commerce, USPTO information collections currently under review by OMB.

• Email: InformationCollection@uspto.gov. Include “0651-0017 information request” in the subject line of the message.

• Mail: Justin Isaac, Office of the Chief Administrative Officer, United States Patent and Trademark Office, P.O. Box 1450, Alexandria, VA 22313-1450.

• Telephone: Dahlia Girgis, Office of Enrollment and Discipline, 571-272-4097.

SUPPLEMENTARY INFORMATION:

Title: Practitioner Conduct and Discipline.

OMB Control Number: 0651-0017.

Needs and Uses: The Director of the USPTO has the authority to establish regulations governing the conduct and discipline of agents, attorneys, or other persons representing applicants and other parties before the USPTO (35 U.S.C. 2, 32-33). The USPTO Rules of Professional Conduct, set forth in 37 CFR part 11, subpart D, prescribe the manner in which agents, attorneys, and other persons (collectively, “practitioners”) representing applicants and other parties before the USPTO should conduct themselves professionally. Part 11 outlines practitioners' responsibilities for recordkeeping and reporting violations or complaints of misconduct to the USPTO. Part 11, subpart C, sets forth the manner by which the USPTO investigates misconduct and imposes discipline.

The USPTO Rules of Professional Conduct require all practitioners to maintain complete records of all funds, securities, and other properties of clients coming into their possession, and to render appropriate accounts to the client regarding the funds, securities, and other properties of clients coming into the practitioner's possession, collectively known as “client property.” These recordkeeping requirements are necessary to maintain the integrity of client property. State bars require attorneys to perform similar recordkeeping.

Part 11 also requires a practitioner to report knowledge of certain violations of the USPTO Rules of Professional Conduct to the USPTO. The Director of the Office of Enrollment and Discipline (OED) may, after notice and an opportunity for a hearing, suspend, exclude, or disqualify any practitioner from further practice before the USPTO based on non-compliance with the USPTO Rules of Professional Conduct. Practitioners who have been excluded or suspended from practice before the USPTO, and practitioners transferred to disability inactive status, must maintain records of their compliance with the suspension or exclusion order, or the transfer to disability inactive status. These records are necessary to demonstrate eligibility for reinstatement. Reports of alleged violations of the USPTO Rules of Professional Conduct are used by the Director of OED to conduct investigations and disciplinary hearings, as appropriate.

This information collection covers the various reporting and recordkeeping requirements set forth in part 11 for practitioners representing applicants and other parties before the USPTO. Also covered are petitions for reinstatement for suspended or excluded practitioners and the means for reporting violations or complaints of misconduct to the USPTO.

Forms:

• PTO-107R (Reinstatement—Data Sheet—Register of Patent Attorneys and Agents). PTO-107R is also approved for use under USPTO information collection 0651-0012.

Type of Review: Extension and revision of a currently approved information collection.

Affected Public: Individuals or households.

Respondent's Obligation: Required to obtain or retain benefits.

Frequency: On occasion.

Estimated Number of Annual Respondents: 52,411 respondents.

Estimated Number of Annual Responses: 52,411 responses.

Estimated Time per Response: The USPTO estimates that the responses in this information collection that require reporting to the USPTO will take the public approximately 1 to 3 hours to complete. This includes the time to gather the necessary information, create the document, and submit the completed item to the USPTO. The USPTO Rules of Professional Conduct also require practitioners to maintain various records to maintain the integrity of client property and meet other requirements. Additional recordkeeping requirements are applicable to practitioners under suspension or exclusion. The USPTO estimates it will take a practitioner approximately 1 to 20 hours to perform these recordkeeping actions.

Estimated Total Annual Respondent Burden Hours: 58,187 hours.

Estimated Total Annual Respondent Non-Hourly Cost Burden: $5,439.

Changes from the 60-Day Federal Register Notice: Since the 60-day Federal Register notice was published, the estimated postage costs have decreased from $10.75 to $10.40 per mailed item. This lowers the estimated total postage costs from $22 to $21. This results in the total annual respondent non-hourly cost decreasing from $5,440 to $5,439.

Justin Isaac,
Information Collections Officer, Office of the Chief Administrative Officer, United States Patent and Trademark Office.

[FR Doc. 2025-10202 Filed 6-4-25; 8:45 am]

BILLING CODE 3510-16-P